DEPARTMENT OF HOUSING AND URBAN DEVELOPMENT

[Docket No. FR-4977-N--06]

Notice of Proposed Information Collection on PD&R and the Partnership for Advancing Technology in Housing Cooperative Research Efforts

AGENCY: Office of Policy Development and Research, HUD.

ACTION: Notice.

SUMMARY: The proposed information collection requirement described below will be submitted to the Office of Management and Budget (OMB) for review, as required by the Paperwork Reduction Act. The Department is soliciting public comments on the subject proposal.

DATES: Comments Due Date: September 19, 2005.

ADDRESSES: Interested persons are invited to submit comments regarding this proposal. Comments should refer to the proposal by name and/or OMB Control Number and should be sent to: Reports Liaison Officer, Department of Housing and Urban Development, 451 7th Street, SW., Room 8228, Washington, DC 20410.

FOR FURTHER INFORMATION CONTACT: Dana Bres, Research Engineer, Office of Policy Development and Research, Department of Housing and Urban Development, 451 7th Street, SW., Room 8134, Washington, DC 20410, telephone number (202) 708-4370 extension 5919 (this is not a toll-free number) for copies of the proposed forms and other available documents.

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology (e.g., permitting electronic submission of responses).

Title of Proposal: Office of Policy Development and Research and Partnership for Advancing Technology in Housing Cooperative Research efforts.

Description of the need for the information and proposed use: This information collection is required to solicit proposals for cooperative research with the Office of Policy Development and Research (PD&R) and the Partnership for Advancing Technology in Housing (PATH) program seeks proposals for cooperative research efforts from housing researchers and others in areas of mutual interest.

Following collection of the proposals, the data (the proposals) will be evaluated in a process that will lead to the award of cooperative agreements for research and other activities. Without this collection, potential research partners would not be able to apply for cooperative agreements to conduct such activities.

Agency form numbers, if applicable:

Application for Federal Assistance (Form HUD-424);

Applicant Assurances and Certifications (Form HUD 424-B);

Detailed Budget (Form HUD-424-CB);

Detailed Budget Worksheet (Form HUD-424-CBW);

Disclosure of Lobbying Activities, if required (Standard Form LLL);

Disclosure/Update Report (Form HUD-2880);

Acknowledgment of Application Receipt (Form HUD-2993);

Client Comments and Suggestions (Form HUD-2994).

Members of affected public: Housing researchers, trade organizations, community research organizations, and university researchers. The number of organizations is estimated to be 40.

Estimation of the total numbers of hours needed to prepare the information collection including number of respondents, frequency of response, and hours of response:

Task | Number of respondents | Frequency of responses | Hours per response | Burden hours
Summary Proposal | 50 | once | 12.92 | 646
Full Proposal Development | 25 | once | 39 | 975
Grant Start Up | 20 | once | 26 | 520

Total Estimated Annual Burden Hours: 2,141.

Number of copies to be submitted to the Office of Policy Development and Research for evaluation: Four (original and three copies).

Status of the proposed information collection: Pending OMB approval.

Authority: The Paperwork Reduction Act of 1995, 44 U.S.C. Chapter 35, as amended.

Dated: July 8, 2005.
Harold L. Bunce,
Deputy Assistant Secretary for Economic Affairs.

[FR Doc. 05-14332 Filed 7-20-05; 8:45 am]

BILLING CODE 4210-62-M